DEPARTMENT OF ENERGY

Federal Energy Regulatory Commission

Combined Notice of Filings #2

Take notice that the Commission received the following electric rate filings:

Docket Numbers: ER17-976-000.

Applicants: Southwest Power Pool, Inc.

Description: § 205(d) Rate Filing: Attachment AQ Revisions Addressing Non-Material Delivery Point Changes to be effective 4/17/2017.

Filed Date: 2/16/17.

Accession Number: 20170216-5074.

Comments Due: 5 p.m. ET 3/9/17.

Docket Numbers: ER17-977-000.

Applicants: Southern California Edison Company.

Description: § 205(d) Rate Filing: GIA & DSA Oak Creek I Project SA Nos. 948-949 to be effective 2/1/2017.

Filed Date: 2/16/17.

Accession Number: 20170216-5078.

Comments Due: 5 p.m. ET 3/9/17.

Docket Numbers: ER17-978-000.

Applicants: Southern California Edison Company.

Description: § 205(d) Rate Filing: GIA & DSA Oak Creek II Project SA Nos. 946-947 to be effective 2/1/2017.

Filed Date: 2/16/17.

Accession Number: 20170216-5079.

Comments Due: 5 p.m. ET 3/9/17.

Docket Numbers: ER17-979-000.

Applicants: PJM Interconnection, L.L.C.

Description: § 205(d) Rate Filing: Original ISA SA No. 4618, Queue Position AB1-150 to be effective1/17/2017.

Filed Date: 2/16/17.

Accession Number: 20170216-5118.

Comments Due: 5 p.m. ET 3/9/17.

Docket Numbers: ER17-980-000.

Applicants: Alliant Energy Corporate Services, Inc.

Description: § 205(d) Rate Filing: AECS Updated Rate Schedule 2 to be effective 4/17/2017.

Filed Date: 2/16/17.

Accession Number: 20170216-5126.

Comments Due: 5 p.m. ET 3/9/17.

Docket Numbers: ER17-981-000.

Applicants: PacifiCorp.

Description: § 205(d) Rate Filing: WAPA NITSA Rev 5 to be effective2/1/2017.

Filed Date: 2/16/17.

Accession Number: 20170216-5145.

Comments Due: 5 p.m. ET 3/9/17.

Docket Numbers: ER17-982-000.

Applicants: PJM Interconnection, L.L.C.

Description: § 205(d) Rate Filing: Amendment to Service Agreement Nos. 3086 and 4118, Queue No. M24 to Sch. B, C, F to be effective 2/14/2017.

Filed Date: 2/16/17.

Accession Number: 20170216-5160.

Comments Due: 5 p.m. ET 3/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2017.
Nathaniel J. Davis, Sr.,
Deputy Secretary.

[FR Doc. 2017-03564 Filed 2-23-17; 8:45 am]

BILLING CODE 6717-01-P